DEPARTMENT OF LABOR

Mine Safety and Health Administration

Petitions for Modification

AGENCY: Mine Safety and Health Administration (MSHA), Labor.

ACTION: Notice of petitions for modification of existing mandatory safety standards.

SUMMARY: Section 101(c) of the Federal Mine Safety and Health Act of 1977 and 30 CFR part 44 govern the application, processing, and disposition of petitions for modification. This notice is a summary of petitions for modification filed by the parties listed below to modify the application of existing mandatory safety standards published in Title 30 of the Code of Federal Regulations.

DATES: All comments on the petitions must be received by the Office of Standards, Regulations and Variances on or before July 19, 2010.

ADDRESSES: You may submit your comments, identified by “docket number” on the subject line, by any of the following methods:

1. Electronic Mail: Standards-Petitions@dol.gov.

2. Facsimile: 1-202-693-9441.

3. Regular Mail: MSHA, Office of Standards, Regulations and Variances, 1100 Wilson Boulevard, Room 2350, Arlington, Virginia 22209-3939, Attention: Patricia W. Silvey, Director, Office of Standards, Regulations and Variances.

4. Hand-Delivery or Courier: MSHA, Office of Standards, Regulations and Variances, 1100 Wilson Boulevard, Room 2350, Arlington, Virginia 22209-3939, Attention: Patricia W. Silvey, Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Docket Numbers: M-2010-024-C, M-2010-025-C, M-2010-026-C, M-2010-027-C, and M-2010-028-C.

Petitioners: Panther Mining, LLC, Mine #1, MSHA I.D. No. 15-18198, located in Harlan County, Kentucky (Docket No. M-2010-024-C); North Fork Coal Corp., Mine #5, MSHA I.D. No. 15-18732 (Docket No. M-2010-025-C) and Mine #4, MSHA I.D. No. 15-18340 (Docket No. M-2010-026-C), located in Letcher County, Kentucky; and Stillhouse Mining, LLC, Mine #1, MSHA I.D. No. 15-17165 (Docket No. M-2010-027-C) and Mine #2, MSHA I.D. No. 15-18869 (Docket No. M-2010-028-C), located in Harlan County, Kentucky.

Regulation Affected: 30 CFR 75.507-1(a) (Electric equipment other than power-connection points; outby the last open crosscut; return air; permissibility requirements).

Modification Request: The petitioners requests a modification of the existing standard to permit an increase in the maximum length of trailing cables supplying power to permissible pumps at the above referenced mines. The petitioner states that: (1) This petition will apply only to trailing cables supplying three-phase, 480-volt power for permissible pumps; (2) the maximum length of the 480-volt power for permissible power will be 4000 feet; (3) all circuit breakers used to protect trailing cables exceeding the pump approval length or Table 9 of 30 CFR part 18 will have an instantaneous trip unit calibrated to trip at 70 percent of phase-to-phase short-circuit current. The trip setting of these circuit breakers will be sealed or locked, and these circuit breakers will have permanent, legible labels. Each label will identify the circuit breaker as being suitable for protecting the trailing cables. This label will be maintained legible. In instances where a 70 percent instantaneous set point will not allow a pump to start due to motor inrush, a thermal magnetic breaker will be furnished. The thermal rating of the circuit breaker will be no greater than 70 percent of the available short-circuit current and the instantaneous setting will be adjusted one setting above the motor inrush trip point. This setting will also be sealed or locked; (4) replacement instantaneous trip units, used to protect pump trailing cables exceeding required lengths of cables will be calibrated to trip at 70 percent of the available phase-to-phase short-circuit current and this setting will be sealed or locked; (5) permanent warning labels shall be installed and maintained on the covers of the power center to identify the location of each sealed or locked short-circuit protection device. These labels will warn miners not to change or alter these short-circuit settings; (6) all pump installations with cable lengths that are specified in Table 9 will have short-circuit surveys conducted and items 1-5 will be implemented. A copy of each pump short-circuit survey will be available at the mine site for inspection; (7) the alternative method will not be implemented until miners who have been designated to examine the integrity of seals or locks, verify the short-circuit setting, and proper procedures for examining trailing cables for defects and damage have received the element of trailing herein; (8) within sixty (60) days after this petition is granted, proposed revisions for their approved 30 CFR Part 48 training plans will be submitted to the Coal Mine Safety and Health District Manager for the area in which the mine is located. The proposed training will include the following elements: (a) Training in mining methods and operating procedures that will protect the trailing cables against damage; (b) training in the proper procedures for examining the trailing cables to ensure the cables are in a safe operating condition; (c) training in hazards of setting the instantaneous circuit breakers too high to adequately protect the trailing cables; (d) training in how to verify the circuit interrupting device(s) protecting the trailing cable(s) are properly set and maintained. The petitioner further states that the procedures of 30 CFR 48.3 for approval of proposed revisions to already approved training plans will apply. The petitioner asserts that the proposed alternative method will at all times guarantee no less than the same measure of protection to all miners than is provided by the existing standard.

Docket Numbers: M-2010-002-M.

Petitioner: Solvay Chemicals, Inc., P.O. Box 1167, 400 County Road 85, Green River, Wyoming 82935.

Mine: Solvay Chemicals, Inc., Trona Underground Mine, MSHA I.D. No. 48-01295, located in Sweetwater County, Wyoming.

Regulation Affected: 30 CFR 57.22305 (Approved equipment (III mines)).

Modification Request: The petitioner requests a modification of the existing standard to permit the use of certain non-permissible equipment for the purpose of thermographic measurements in or beyond the last open crosscut. The petitioner proposes to use an infrared camera for the purpose of preventative maintenance under specific conditions and while continuously monitoring for methane levels. Immediately prior to the use of the non-permissible equipment, the mine atmosphere will be tested for methane within 6 inches, and would be continuously monitored with an approved instrument capable of providing both visual and audible alarms. Methane levels would be continuously monitored during thermographic measurements by utilizing the longwall continuous methane monitors located at the shear, headgate and tailgate. The continuous monitors alarm at 1% methane and de-energize the longwall mining machine at 1.5% methane. Methane levels will also be monitored by an appropriate continuous monitoring meter carried by the operator. The petitioner asserts that the proposed alternative method will guarantee the miners no less than the same measure of protection as would the existing standard.

Dated: June 11, 2010.
Patricia W. Silvey,
Director, Office of Standards, Regulations and Variances.

[FR Doc. 2010-14592 Filed 6-16-10; 8:45 am]

BILLING CODE 4510-43-P